DEPARTMENT OF HEALTH AND HUMAN SERVICES

Health Resources and Services Administration

Agency Information Collection Activities: Proposed Collection: Public Comment Request; Information Collection Request Title: Nurse Corps Loan Repayment Program, OMB No. 0915-0140—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than July 14, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Nurse Corps Loan Repayment Program, OMB No. 0915-0140—Revision.

Abstract: The Nurse Corps Loan Repayment Program (LRP) assists in the recruitment and retention of professional Registered Nurses (RNs), including Advanced Practice Registered Nurses (APRNs), by decreasing the financial barriers associated with pursuing a nursing education. RNs in this instance include APRNs (e.g., nurse practitioners, certified registered nurse anesthetists, certified nurse-midwives, and clinical nurse specialists) dedicated to working at eligible health care facilities with a critical shortage of nurses (i.e., a Critical Shortage Facility) or working as nurse faculty in eligible, accredited schools of nursing. The Nurse Corps LRP provides loan repayment assistance to these nurses to repay a portion of their qualifying educational loans in exchange for a minimum of 2 years of full-time service at a public or private Critical Shortage Facility or in an eligible, accredited school of nursing.

Need and Proposed Use of the Information: Individuals must submit an application in order to participate in the program. The application asks for personal, professional, educational, and financial information required to determine the applicant's eligibility to participate in the Nurse Corps LRP. An Employment Verification Form verifies the applicant's name and address of the Critical Shortage Facility or eligible school of nursing where they will serve their service commitment, which must be completed by the appropriate official or authorized point of contact at the Critical shortage Facility or school of nursing. This information collection is used by the Nurse Corps program to make award decisions about Nurse Corps LRP applicants and to monitor a participant's compliance with the program's service requirements. The Nurse Corps LRP is requesting a revision and is seeking to use the previously approved forms. The revisions are because of a decrease in the annualized burden due to a fewer number of anticipated respondents.

Likely Respondents: Professional RNs or APRNs who are interested in participating in the Nurse Corps LRP, and official representatives at their service sites.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours: The estimates of reporting for applicants are as follows:

Form name | Number of respondents | Number of responses per respondent | Total responses | Average burden per response (in hours) | Total burden hours
Nurse Corps LRP Application * | 6,450 | 1 | 6,450 | 2.00 | 12,900
Authorization to Release Information Form ** | 6,450 | 1 | 6,450 | 0.10 | 645
Employment Verification Form ** | 6,450 | 1 | 6,450 | 0.10 | 645
Disadvantaged Background Form | 388 | 1 | 388 | 0.20 | 78
Confirmation of Interest Form | 989 | 1 | 989 | 0.20 | 198
Total for Applicants | 20,727 |  | 20,727 |  | 14,466
*The burden hours associated with this instrument account for both new and continuation applications.
**The same respondents are completing these instruments.

The estimates of reporting for Participants are as follows:

Form name | Number of respondents | Number of responses per respondent | Total responses | Average burden per response (in hours) | Total burden hours
Participant Semi-Annual In Service Verification Form | 989 | 2 | 1,978 | 0.50 | 989
Nurse Corps Critical Shortage Facility Verification Form | 989 | 1 | 989 | 0.10 | 99
Nurse Corps Nurse Faculty Employment Verification Form | 388 | 1 | 388 | 0.20 | 78
Total for Participants | 2,366 |  | 3,355 |  | 1,166

The total estimates for Applicants and Participants are as follows:

Form name | Number of respondents | Number of responses per respondent | Total responses | Average burden per response (in hours) | Total burden hours
Total for Applicants and Participants | 23,093 |  | 24,082 |  | 15,632

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-08610 Filed 5-14-25; 8:45 am]

BILLING CODE 4165-15-P